DEPARTMENT OF HEALTH AND HUMAN SERVICES

Food and Drug Administration

[FDA 225-03-8004]

Memorandum of Understanding Between the Food and Drug Administration and the Food and Drug Administration Alumni Association, Inc.

AGENCY: Food and Drug Administration, HHS.

ACTION: Notice.

SUMMARY: The Food and Drug Administration (FDA) is providing notice of a memorandum of understanding (MOU) between the Food and Drug Administration and the Food and Drug Administration Alumni Association, Inc., (FDAAA). FDA and FDAAA agree to partner on future specific undertakings that are considered beneficial to both organizations, are directly related to the mission of FDA, and are within FDA's statutory authorities.

DATES: The agreement became effective March 3, 2003.

FOR FURTHER INFORMATION CONTACT: Mary Hitch, Office of External Affairs (HF-10), Food and Drug Administration, 5600 Fishers Lane, Rockville, MD 20857, 301-827-4406, e-mail: Mary.Hitch@fda.gov.

SUPPLEMENTARY INFORMATION: In accordance with 21 CFR 20.108(c), which states that all written agreements and MOUs between FDA and others shall be published in the Federal Register, the agency is publishing notice of this MOU.

Dated: June 30, 2005.
Jeffrey Shuren,
Assistant Commissioner for Policy.

BILLING CODE 4160-01-S

[FR Doc. 05-13765 Filed 7-12-05; 8:45 am]

BILLING CODE 4160-01-C